DEPARTMENT OF COMMERCE

International Trade Administration

A-337-806

Individually Quick Frozen Red Raspberries from Chile: Notice of Final Results of Antidumping Duty Administrative Review

AGENCY: Import Administration, International Trade Administration, Department of Commerce.

SUMMARY: On July 29, 2005, the Department of Commerce published the preliminary results of the administrative review of the antidumping duty order on individually quick frozen red raspberries from Chile. The period of review is July 1, 2003, through June 30, 2004. This review covers sales of individually quick frozen red raspberries with respect to Fruticola Olmue, S.A.; Santiago Comercio Exterior Exportaciones Limitada; and Vital Berry Marketing, S.A. We provided interested parties with an opportunity to comment on the preliminary results of this review, but received no comments. The final results do not differ from the preliminary results of this review. We will instruct the U.S. Customs and Border Protection to assess importer-specific antidumping duties on the subject merchandise exported by these companies.

EFFECTIVE DATE: December 7, 2005.

FOR FURTHER INFORMATION CONTACT: Yasmin Bordas, Cole Kyle, or Scott Holland, AD/CVD Operations, Import Administration, International Trade Administration, U.S. Department of Commerce, 14th Street and Constitution Avenue, NW, Washington, DC 20230; telephone: (202) 482-3813, (202) 482-1503, or (202) 482-1279, respectively.

SUPPLEMENTARY INFORMATION:

Background

Since the publication of the preliminary results of this review (see Notice of Preliminary Results of Antidumping Duty Administrative Review: Individually Quick Frozen Red Raspberries from Chile, 70 FR 44889 (August 4, 2005) (“Preliminary Results”)), the following events have occurred: The Department of Commerce (“the Department”) invited interested parties to comment on the preliminary results of this review. No comments were received.

Scope of the Order

The products covered by this order are imports of individually quick frozen (“IQF”) whole or broken red raspberries from Chile, with or without the addition of sugar or syrup, regardless of variety, grade, size or horticulture method (e.g., organic or not), the size of the container in which packed, or the method of packing. The scope of the order excludes fresh red raspberries and block frozen red raspberries (i.e., puree, straight pack, juice stock, and juice concentrate).

The merchandise subject to this order is currently classifiable under subheading 0811.20.2020 of the Harmonized Tariff Schedule of the United States (“HTSUS”). Although the HTSUS subheading is provided for convenience and customs purposes, the written description of the merchandise under the order is dispositive.

Period of Review

The period of review (“POR”) is July 1, 2003, through June 30, 2004.

Final Results of the Review

These final results remain unchanged from the Preliminary Results. We provided an opportunity for parties to comment on our preliminary results and received no comments. Therefore, we find that the following percentage weighted-average margins exist for the period July 1, 2003, through June 30, 2004:

Exporter/manufacturer | Weighted-average margin percentage
Fruticola Olmue, S.A. | 0.09 (de minimis)
Santiago Comercio Exterior Exportaciones, Ltda.
Vital Berry, S.A. | 0.00

Assessment Rates

The Department shall determine, and U.S. Customs and Border Protection (“CBP”) shall assess, antidumping duties on all appropriate entries. In accordance with 19 CFR 351.212 (b)(1), we have calculated exporter/importer (or customer)-specific assessment rates for merchandise subject to this review. The Department will issue appraisement instructions directly to CBP within 15 days of publication of these final results of review. We will direct CBP to assess the resulting assessment rates against the entered customs values for the subject merchandise on each of that importer's entries during the POR. For assessment purposes, we will calculate importer-specific assessment rates for the subject merchandise by aggregating the dumping duties due for all U.S. sales to each importer and dividing the amount by the total entered value of the sales to that importer during the POR.

The following cash deposit requirements will be effective for all shipments of the subject merchandise entered, or withdrawn from warehouse, for consumption on or after the publication date of the final results of this administrative review, as provided by section 751(a)(1) of the Act: (1) the cash deposit rates for the reviewed companies will be those established above in the “Final Results of the Review” section of this notice, except if the rate is less than 0.50 percent and, therefore, de minimis within the meaning of 19 CFR 351.106(c)(1), in which case the cash deposit rate will be zero; (2) if the exporter is not a firm covered in this review, but was covered in a previous review, or the original investigation, the cash deposit rate will continue to be the company-specific rate published for the most recent period; (3) if the exporter is not a firm covered in this review, a previous review, or the original investigation, but the manufacturer is, the cash deposit rate will be the rate established for the most recent period for the manufacturer of the merchandise; and (4) the cash deposit rate for all other manufacturers and/or exporters shall continue to be 6.33 percent, the “all others” rate made effective by the less-than-fair-value investigation. See 67 FR 45460 (July 9, 2002).

These requirements, when imposed, shall remain in effect until publication of the final results of the next administrative review.

Notification to Importers

This notice serves as a final reminder to importers of their responsibility under 19 CFR 402(f)(2) to file a certificate regarding the reimbursement of antidumping duties prior to liquidation of the relevant entries during this review period. Failure to comply with this requirement could result in the Secretary's presumption that reimbursement of antidumping duties occurred and the subsequent assessment of double antidumping duties.

Notification Regarding APOs

This notice also serves as the only reminder to parties subject to the administrative protective order (“APO”) of their responsibility concerning the disposition of proprietary information disclosed under APO in accordance with 19 CFR 351.305(a)(3), which continues to govern business proprietary information in this segment of the proceeding. Timely written notification of return/destruction of APO material or conversion to judicial protective order is hereby requested. Failure to comply with the regulation and the terms of an APO is a sanctionable violation.

This administrative review and notice are published in accordance with sections 751(a)(1) and 777(i)(1) of the Act and 19 CFR 351.221(b)(5).

Dated: December 1, 2005.
Stephen Claeys,
Acting Assistant Secretary for Import Administration.

[FR Doc. 05-23737 Filed 12-6-05; 8:45 am]

BILLING CODE 3510-DS-S